INTERNATIONAL TRADE COMMISSION

Notice of Publication of Petitions for Duty Suspensions and Reductions and Opportunity To Comment on Petitions

AGENCY: United States International Trade Commission.

ACTION: Notice of publication on the Commission's Web site of petitions for duty suspensions and reductions and request for comments on the petitions filed.

SUMMARY: As required by the American Manufacturing Competitiveness Act of 2016, the Commission has published on its Web site the petitions for duty suspensions and reductions that were timely filed and contain the required information, and the Commission is requesting members of the public to submit comments to the Commission on the petitions published no later than the close of business February 24, 2017.

DATES: January 11, 2017: Date of publication on the Commission's Web site of petitions for duty suspensions and reductions and opening date for filing comments concerning those petitions. February 24, 2017, 5:15 p.m., EST: Closing date and time for the submission of comments concerning the petitions for duty suspensions and reductions published on the Commission's Web site. Comments must be submitted in electronic form via the Commission's secure web portal. The Commission will not accept comments submitted in paper or in any other form or format.

ADDRESSES: All Commission offices are located in the United States International Trade Commission Building, 500 E Street SW., Washington, DC. The public file for this proceeding may be viewed on the Commission's Miscellaneous Tariff Bill Petition System (MTBPS) at https://www.usitc.gov/mtbps.

FOR FURTHER INFORMATION CONTACT: For general inquiries, contact Jennifer Rohrbach at mtbinfo@usitc.gov. For filing inquiries, contact the Office of Secretary, Docket Services division, U.S. International Trade Commission, telephone (202) 205-3238.

The media should contact Peg O'Laughlin, Public Affairs Officer (202-205-1819 or margaret.olaughlin@usitc.gov). General information concerning the Commission may be obtained by accessing its internet server (https://www.usitc.gov).

Background: The American Manufacturing Competitiveness Act of 2016 (the Act), (Public Law 114-159, May 20, 2016), 19 U.S.C. 1332 note, establishes a new process for the submission and consideration of requests for temporary duty suspensions and reductions. Section 3(b)(1) of the Act requires that the Commission initiate the process by publishing a notice requesting members of the public who can demonstrate that they are likely beneficiaries of duty suspensions or reductions to submit petitions and Commission disclosure forms to the Commission. As required by the Act, the Commission published that notice in the Federal Register on October 14, 2016 (81 FR 71114), with all such petitions to be submitted no later than the close of business on December 12, 2016. Section 3(b)(3)(A) of the Act requires that the Commission, no later than 30 days after the expiration of the period for filing petitions, that is, by January 11, 2017, publish on its Web site the petitions received that contain the information required by the Act. Section 3(b)(3)(B) of the Act requires that the Commission, at the same time, publish a notice requesting members of the public to submit comments to the Commission on the petitions published. Such comments must be submitted to the Commission during the 45-day period beginning on the date of publication of the notice—in this case, by February 24, 2017.

Following conclusion of the period for filing comments, the Commission will, as required by sections 3(b)(3)(C) and (E) of the Act, submit preliminary and final reports to the House Committee on Ways and Means and the Senate Committee on Finance (Committees) on the petitions received. The Commission will submit its reports in June and August 2017, respectively. The reports are to include the Commission's analysis and recommendations regarding the petitions, including whether there is domestic production of the article, whether the estimated loss in revenues due to the duty suspension or reduction does not exceed $500,000, and whether the duty suspension or reduction will be available to any person importing the article. The Commission is required to classify the petitions into categories based on whether (1) the petition meets the requirements for inclusion in a miscellaneous tariff bill; (2) the Commission recommends inclusion in such a bill with specified technical changes, changes in product scope, or adjustment in the amount of duty reduction; (3) the Commission recommends against inclusion in a bill because the petition does not meet the petitioning requirements or the petitioner is not a likely beneficiary; and (4) the Commission otherwise recommends not including the petition. The Committees and the Congress will make the final decision regarding the imported articles to be included in a bill.

Section 3(c) of the Act also requires the U.S. Department of Commerce (Commerce), with input from U.S. Customs and Border Protection (CBP) and other Federal agencies, to submit a report to the Commission and to the Committees. This report is to include information related to domestic production and technical changes that are necessary for purposes of administration when articles are presented for importation.

Procedures for filing a Comment: The Commission has promulgated rules of practice and procedure that address, inter alia, the submission of comments on the petitions filed. The rules, in the form of an interim rule, are published at 19 CFR part 220 (81 FR 67144, Sept. 30, 2016)—see in particular 19 CFR 220.10. The rules are also posted on the Commission's Web site along with other materials, including a handbook, designed to assist the public in filing petitions and comments—see https://www.usitc.gov/mtbps.

Who may file. Comments may be filed by any member of the public. The Commission is particularly interested in receiving comments from domestic producers with respect to whether they produce an article that is identical to, like, or directly competitive with an article that is the subject of a petition for a duty suspension or reduction, and if they do, whether they object to such a duty suspension or reduction. The Commission is also interested in receiving comments from individuals and entities who believe they would be a likely beneficiary of a particular duty suspension or reduction, or who, having been named in the petition or another comment as a likely beneficiary, wish to state that they would not be a likely beneficiary of a particular duty suspension or reduction. The statute defines “likely beneficiary” to mean “an individual or entity likely to utilize, or benefit directly from the utilization of, an article that is the subject of a petition for a duty suspension or reduction.”

Petitioning parties may also submit comments. However, any such comments must not amend or seek to amend a petition that the submitter previously filed, and the Commission will not consider any comments from a petitioner to such effect.

Method for filing. Comments concerning petitions for duty suspensions and reductions may be filed only electronically via the Commission's designated secure MTBPS web portal and in the format designated by the Commission in that portal. The portal may be accessed through the Commission's Web site at https://www.usitc.gov under “Miscellaneous Tariff Bill Information.” The portal contains a series of prompts and links that will assist persons in providing the required information. The Commission will not accept comments submitted in paper or in any other form or format. Comments must contain all information required in the portal in order to be considered properly filed. Comments, including any attachments thereto, must otherwise comply with the Commission's rules and Handbook on MTB Filing Procedures. Persons seeking to comment on more than one petition must submit a separate comment for each petition.

Persons filing comments should be aware that they must be prepared to complete their entire comment when they enter the portal. The portal will not allow them to edit, amend, or complete the comment at a later time. Accordingly, they should have all the information in hand that they will need to complete their comment at the time they enter the portal. The types of information that a person submitting a comment may need are listed in the Commission's Before You File a Comment guide, which is also located on the Commission's Web site at https://www.usitc.gov/mtbps.

Time for filing. To be considered, comments must be filed no earlier than the publication date of this notice in the Federal Register and no later than the close of business (5:15 p.m. EST) on February 24, 2017. The Commission will not accept comments filed after that time and date.

Amendment and withdrawal of comments. The Commission's secure web portal will not allow a person who has formally submitted a comment to amend that comment. Instead, that person must withdraw the original comment and file a new comment that incorporates the changes. The new comment must be filed within the 45-day period designated for submitting comments (i.e., before 5:15 p.m. EST on February 24, 2017). Comments may not be withdrawn or amended after the close of the 45-day period for filing comments.

Comments containing confidential business information. The portal will permit persons submitting comments to claim that certain information should be treated either as confidential business information or as information protected from disclosure under the Privacy Act. However, because of the portal's design, the portal instructs that such information not be included in attachments to comments. Persons who include confidential business information and information protected under the Privacy Act in attachments to their comments will be presumed to have waived any privilege and the information will be disclosed to the public when the comments and attachments are posted on the Commission's Web site. See further information below on possible disclosure of confidential business information.

Confidential Business Information. The Commission will not release information which the Commission considers to be confidential business information within the meaning of § 201.6(a) of its Rules of Practice and Procedure (19 CFR 201.6) unless the party submitting the confidential business information had notice, at the time of submission, that such information would be released by the Commission, or such party subsequently consents to the release of the information.

Confidential business information submitted to the Commission in comments may be disclosed to and/or used by (1) the Commission in calculating the estimated revenue loss required under the Act, which may be based in whole or in part on the estimated values of imports submitted in comments (as well as by petitioners in their petitions); or (2) the Commission, its employees, and contract personnel (a) in processing petitions and comments and preparing reports under the American Manufacturing Competitiveness Act of 2016 or (b) in internal investigations, audits, reviews, and evaluations relating to the programs, personnel, and operations of the Commission including under 5 U.S.C. Appendix 3; or (3) Commerce for use in preparing its report to the Commission and the Committees, and the U.S. Department of Agriculture and CBP for use in providing information for that report; or (4) U.S. government employees and contract personnel, solely for cybersecurity purposes, subject to the requirement that all contract personnel will sign appropriate nondisclosure agreements.

By order of the Commission.
Issued: January 3, 2017.
Katherine M. Hiner,
Acting Supervisory Attorney.

[FR Doc. 2017-00062 Filed 1-10-17; 8:45 am]

BILLING CODE 7020-02-P